DEPARTMENT OF LABOR

Employment and Training Administration

[TA-W-38,132]

Christina Coat & Suit Corporation, Brooklyn, NY; Notice of Termination of Investigation

Pursuant to section 221 of the Trade Act of 1974, an investigation was initiated on September 25, 2000, in response to a worker petition which was filed on behalf of workers at Christina Coat & Suit Corporation, Brooklyn, New York.

The Department of Labor has been unable to locate officials of the subject firm in order to obtain the information necessary to issue a determination regarding eligibility to apply for worker adjustment assistance. Consequently, further investigation in this case would serve no purpose, and the investigation has been terminated.

Signed at Washington, DC, this 17th day of November, 2000.
Linda G. Poole,
Certifying Officer, Division of Trade Adjustment Assistance.

[FR Doc. 00-30618 Filed 11-30-00; 8:45 am]

BILLING CODE 4510-30-M